DEPARTMENT OF TRANSPORTATION

Federal Aviation Administration

14 CFR Part 39

[Docket No. FAA-2006-26285; Directorate Identifier 2006-CE-69-AD; Amendment 39-14932; AD 2007-04-01]

RIN 2120-AA64

Airworthiness Directives; Pacific Aerospace Corporation Ltd Model 750XL Airplanes

AGENCY: Federal Aviation Administration (FAA), DOT.

ACTION: Final rule; correction.

SUMMARY: This document makes a correction to Airworthiness Directive (AD) 2007-04-01, which was published in the Federal Register on February 14, 2007 (72 FR 6931), and applies to certain Pacific Aerospace Corporation Ltd Model 750XL airplanes. AD 2007-04-01 requires that you inspect the rivets in the fuselage roof at STN 180.85, BL 19.67, WL 86.2, and replace undersize rivets. Current language in § 39.13 [Amended] of AD 2007-04-01 references “* * *” instead of “2007-04-01.” This document corrects that paragraph by changing the reference from “* * *” to “2007-04-01.”

DATES: The effective date of this AD (2007-04-01) remains March 21, 2007.

FOR FURTHER INFORMATION CONTACT: Karl Schletzbaum, Aerospace Engineer, FAA, Small Airplane Directorate, 901 Locust, Room 301, Kansas City, Missouri 64106; telephone: (816) 329-4146; fax: (816) 329-4090.

SUPPLEMENTARY INFORMATION:

Discussion

On February 5, 2007, the FAA issued AD 2007-04-01, Amendment 39-14932 (72 FR 6931, February 14, 2007), which applies to certain Pacific Aerospace Corporation Ltd Model 750XL airplanes. AD 2007-04-01 requires you to inspect the rivets in the fuselage roof at STN 180.85, BL 19.67, WL 86.2, and replace undersize rivets. Current language in § 39.13 [Amended] of AD 2007-04-01 references “* * *” instead of “2007-04-01.”

Need for the Correction

This correction is needed to specify the correct AD number (2007-04-01) for AD 2007-04-01.

Correction of Publication

Accordingly, the publication of February 14, 2007 (72 FR 6931), of Amendment 39-14932; AD 2007-04-01, which was the subject of FR Doc. E7-2318, is corrected as follows:

Section 39.13 [Corrected]

On page 6932, in the second column, in § 39.13 [Amended], in the third line, remove “* * *” and add “2007-04-01” in its place.

Action is taken herein to correct this reference in AD 2007-04-01 and to add this AD correction to section 39.13 of the Federal Aviation Regulations (14 CFR 39.13).

The effective date remains March 21, 2007.

Issued in Kansas City, Missouri, on March 2, 2007.
Kim Smith,
Manager, Small Airplane Directorate, Aircraft Certification Service.

[FR Doc. E7-4130 Filed 3-7-07; 8:45 am]

BILLING CODE 4910-13-P